DEPARTMENT OF LABOR

Employment and Training Administration

Proposed Collection; Comment Request

ACTION: Notice.

SUMMARY: The Department of Labor, as part of its continuing effort to reduce paperwork and respondent burden conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. Currently, the Employment and Training Administration is soliciting comments concerning the proposed extension of data collection for the ETA Form 9117 (formerly ETA-9023), Trade Adjustment Assistance (TAA) Reserve Funding Request Form (1205-0275, expires 12/31/2006). A copy of the proposed information collection request (ICR) can be obtained by contacting the office listed below in the ADDRESSES section of this notice.

DATES: Written comments must be submitted to the office listed in the addressee section below on or before November 20, 2006.

ADDRESSES: Erica R. Cantor, Administrator, Office of National Response, Employment and Training Administration, U.S. Department of Labor, Room C-5311, 200 Constitution Ave., NW., Washington, DC 20210. Phone (202) 693-2757 (this is not a toll-free number), fax (202) 693-3584, or e-mail cantor.erica@dol.gov.

SUPPLEMENTARY INFORMATION: I. Background: The Trade Adjustment Assistance (TAA) and Alternative Trade Adjustment Assistance (ATAA) programs provide assistance to workers that have been adversely affected by foreign trade. Under the Trade Act of 1974, as amended by the Trade Reform Act of 2002, the statutory training cap is $220 million each year, with additional funding available for job search and relocation allowances and State administration. To be eligible for TAA or ATAA benefits, a group of workers, a company official, a union or other duly authorized representative, or a One Stop Operator or partner must file a petition with the Department of Labor. If the Department determines that the workers meet the statutory criteria, it issues a certification of eligibility for the workers in the group to apply for benefits and services through partnerships between the State Workforce Agencies (SWAs) and the One Stop Career Center system. On average, approximately 120,000 workers are potentially eligible to apply for TAA benefits and services each year. Of those potentially eligible, roughly 40,000 individuals begin receiving TAA-funded benefits and services each year. In addition, 40,000 individuals who began receiving services in previous years continue to receive them.

II. Review Focus: The Department of Labor is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

III. Current Actions: This is a notice to extend the collection period that is currently approved by OMB (1205-0275 expires December 31, 2006).

The ETA-9117(formerly ETA-9023) has been successfully utilized by the ETA and SWAs since its implementation in July 2004. The Department distributes $165 million of the $220 million appropriation available for TAA training at the beginning of each fiscal year as formula base allocations. The remaining training funds or $55 million is held in reserve by the Department to support States that experience large unanticipated layoffs that cannot be covered by their formula base allocation. The reserve funds are requested using the ETA-9117 (formerly ETA-9023) which provides essential information needed to determine the reasonableness of requests for TAA reserve funding such as the number of individuals currently enrolled in training that require additional funding through the current fiscal year; the number of new enrollees that require funding through the current fiscal year; the number of individuals requesting job search and relocation allowances; accrual expenditures for the most recent available funds; active certifications; and the circumstances necessitating the request for additional funding.

Type of Review: Extension and revision of a currently approved collection.

Agency: Employment and Training Administration.

Title: Trade Adjustment Assistance (TAA) Reserve Funding Request Form. OMB Number: 1205-0275.

Agency Number: ETA-9117 (formerly ETA-9023).

Affected Public: State, local or tribal Government.

Total Respondents: 25.

Estimated Total Burden Hours: 75.

Cite/reference | Total respondents | Frequency | Total responses | Average time per response (hours) | Total requested burden
TAA Reserve Request Form | 25 | On occasion | 25 | 3 | 75

Comments submitted in response to this comment request will be summarized and/or included in the request for Office of Management and Budget approval of the information collection request; they will also become a matter of public record.

Dated: September 11, 2006.
Erica R. Cantor,
Administrator, Office of National Response.

[FR Doc. 06-7936 Filed 9-20-06; 8:45 am]

BILLING CODE 4510-30-P